DEPARTMENT OF HEALTH AND HUMAN SERVICES

President's Advisory Council on Faith-Based and Neighborhood Partnerships

In accordance with section 10(a)(2) of the Federal Advisory Committee Act (Pub. L. 92-463), the President's Advisory Council on Faith-Based and Neighborhood Partnerships announces the following meetings:

Name: President's Advisory Council on Faith-based and Neighborhood Partnerships Council Meetings.

Time and Date: Tuesday, March 9th 9 a.m.-3 p.m. (EST).

Place: Meeting will be held at a location to be determined in the White House complex, 1600 Pennsylvania Ave., NW., Washington, DC. Space is extremely limited. Photo ID and RSVP are required to attend the event. Please RSVP to Mara Vanderslice to attend the meeting no later than March 3rd, 2010 at: mvanderslice@who.eop.gov.

There will also be a conference call line available for those who cannot attend the meeting in person. The call-in line is: 800-857-8628, Passcode: 5091968.

Status: Open to the public, limited only by space available. Conference call limited only by lines available.

Purpose: The Council brings together leaders and experts in fields related to the work of faith-based and neighborhood organizations in order to: Identify best practices and successful modes of delivering social services; evaluate the need for improvements in the implementation and coordination of public policies relating to faith-based and other neighborhood organizations; and make recommendations for changes in policies, programs, and practices.

Contact Person for Additional Information: Please contact Mara Vanderslice for any additional information about the President's Advisory Council meeting at mvanderslice@who.eop.gov.

Agenda: Presentation of the Council's final report to government officials, including six areas of focus: Economic Recovery and Domestic Poverty, Reform of the Office, Environment and Climate Change, Inter-Religious Cooperation, Fatherhood and Healthy Families and Global Poverty and Development. For copies of these reports, please contact Mara Vanderslice at mvanderslice@who.eop.gov.

Please visit http://www.whitehouse.gov/partnerships for further updates on the Agenda for the meeting.

Public Comment: There will be an opportunity for public comment at the end of the meeting.

Dated: Feb. 17, 2010.
Mara L. Vanderslice,
Special Assistant.

[FR Doc. 2010-3559 Filed 2-22-10; 8:45 am]

BILLING CODE 4154-07-P